DEPARTMENT OF AGRICULTURE

Forest Service

Plumas National Forest, California, Sugarloaf Hazardous Fuels Reduction Project

AGENCY: Forest Service, USDA.

ACTION: Notice of intent to prepare an environmental impact statement.

SUMMARY: The USDA Forest Service, Feather River Ranger District of the Plumas National Forest (PNF) will prepare an environmental impact statement (EIS) on the Sugarloaf Hazardous Fuels Reduction Project proposed to modify fire behavior, promote forest and watershed health, while contributing to the economic stability of rural communities through: fuels treatments; group selections (GS); area and variable density thinning from below; road improvements; and prescribed fire treatments on National Forest System (NFS) lands. The Sugarloaf Project is located south of Little Grass Valley Reservoir, from Goat Mountain in the north to American House in the south, surrounding the community of La Porte; including the Valley Creek Special Interest Area (SIA) administered by the PNF.

DATES: Comments concerning the scope of the analysis must be received within 45 days from date of publication in the Federal Register. The draft environmental impact statement is expected July 2012 and the final environmental impact statement is expected August 2012. A decision is expected in September 2012 and implementation may begin as early as spring of 2013.

ADDRESSES: Send written comments to Carol Spinos, Interdisciplinary Team Leader, Feather River Ranger District Ranger District, 875 Mitchell Avenue, Oroville, CA 95965. Comments may be: (1) Mailed; (2) hand delivered between the hours of 8:00 a.m. to 4:30 p.m. weekdays Pacific Time; (3) faxed to (530) 532-1210; or (4) electronically mailed to: comments-pacificsouthwest-plumas-featherrvr@fs.fed.us. Please indicate the name “Sugarloaf Hazardous Fuels Reduction Project” on the subject line of your email. Comments submitted electronically must be in Rich Text Format (.rtf), plain text format (.txt.) or Word (.doc).

FOR FURTHER INFORMATION CONTACT: Carol Spinos, Interdisciplinary Team Leader, Feather River Ranger District Ranger District, 875 Mitchell Avenue, Oroville, CA 95966. Telephone: (530) 534-6500 or electronic address: cspinos@fs.fed.us.

Individuals who use telecommunication devices for the deaf (TDD) may call the Federal Information Relay Service (FIRS) at 1-800-877-8339 between 8 a.m. and 8 p.m., Eastern Time, Monday through Friday.

SUPPLEMENTARY INFORMATION: The proposed action is designed to meet the standards and guidelines for land management activities described in the Plumas National Forest Land and Resource Management Plan (PNF LRMP) (USDA 1988) as amended by Herger-Feinstein Quincy Library Group (HFQLG) Final Supplemental Environmental Impact Statement (FSEIS) and Record of Decision (ROD) (USDA 1999a, 1999b, 2003b, 2003c), and the Sierra Nevada Forest Plan Amendment (SNFPA) FSEIS and ROD (USDA 2004a, 2004b). This project is being planned under authorization of the Healthy Forest Restoration Act (H.R. 1904; Pub. L. 108-148; 36 CFR part 218—Predecisional Administrative Review Process).

The Sugarloaf Hazardous Fuels Reduction Project boundary encompasses all or portions of T. 21 N., R. 8 E., sec. 24-26; T. 21 N., R. 9 E., sec. 2, 3, 5-10, 15-22, 27-32 in Plumas County, CA, MDM.

Purpose and Need for Action

This Project is proposed to establish defensible fuel profile zones (DFPZs), modify fire behavior, promote forest and watershed health, while contributing to the economic stability of rural communities in Plumas County, CA. Fire behavior needs to be modified in selected forest stands in order to reduce high fuel loading and resulting increased risks to people, structures, and resources in the wildland urban-interface (WUI). There is a need for forest health, tree species diversity and structural complexity to be altered in the Sugarloaf Project area, because stand densities are unnaturally overcrowded and dominated by shade-tolerant tree species (e.g. Douglas-fir and white-fir) and high fuel loads, at-risk from stand-replacing wildfire, insect infestations and disease. There is a need to improve watershed health as road surfaces are eroding, contributing sedimentation downstream to degrade water quality. There is a need to contribute to local forestry-related employment and provide forest products offerings, vital for rural communities such as La Porte and American House, isolated from urban job markets.

Proposed Action

The USDA Forest Service, Feather River Ranger District of the Plumas National Forest will prepare an environmental impact statement (EIS) for the Sugarloaf Hazardous Fuels Reduction Project. The proposed action would establish 992 acres of defensible fuel profile zones (DFPZs) using 763 acres of variable density and 229 acres of thinning from below; 100 acres of group selection (GS); 5 miles of NFS classified road reconstruction, 5 miles of unclassified (temporary) road construction (closed post operations) and the construction of up to 52 new log landing sites; 223 acres of mastication; 455 acres of hand thin, pile, and burn; 3,195 acres of prescribed fire using manual ignition (i.e., drip torch) techniques, and 28 miles of National Forest System (NFS) road improvements to mitigate resource damage; consistent with the Plumas National Forest Travel Management decision. The selected NFS land roads would be improved using various methods, such as grading, removing and upgrading culverts, ripping and seeding, slope re-contouring, and installing barriers. Wood by-products from these treatments are expected to produce 7 million board feet of commercially-valuable timber, while retaining all live trees greater than 29.9 inches diameter at breast height (DBH) and a minimum of 40 percent forest canopy cover.

Possible Alternatives

In addition to the proposed action, a no-action alternative and a non-commercial funding alternative aimed solely at reducing hazardous fuels as required by the Memorandum and Order dated 11/04/2009 (Case 2:05-CV-00205-MCE-GGH). Additional alternatives may be developed and analyzed during the environmental analysis process.

Responsible Official

The Plumas National Forest Supervisor is the Responsible Official.

Nature of Decision To Be Made

The decision to be made is whether to: (1) Implement the proposed action; (2) meet the purpose and need for action through some other combination of activities; or, (3) take no action at this time.

Preliminary Issues

The US Forest Service has identified the following preliminary issues including potential cumulative effects to watershed resources and wildlife habitat.

Permits or Licenses Required

An Air Pollution Permit, Smoke Management Plan, and California Water Quality Board timber harvest waiver for waste discharge are required by local agencies.

Scoping Process

This notice of intent initiates the scoping process, which guides the development of the environmental impact statement. The Sugarloaf Hazardous Fuels Reduction Project will initiate and request comments at: an open house in Oroville, CA in June 2012, an official 45 day comment period once a Notice of Availability (NOA) is published in the Federal Register, a 30 day objection period, and an objection resolution period.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents. Individual members of organizations must have submitted their own comments to meet the requirements of eligibility as an individual, objections received on behalf of an organization are considered as those of the organization only.

There will not be an appeal period after the final decision. Instead of an appeal period, there will be an objection process before the final decision is made and after the final EIS is mailed (36 CFR part 218). In order to be eligible to file an objection to the preferred alternative identified in the final EIS, specific written comments related to the project must be submitted during scoping or any other periods public comment is specifically requested on this EIS (36 DFR 218.5).

Comments received in response to this solicitation, including names and addresses of those who comment, will become part of the public record for this proposed action. Comments submitted anonymously will be accepted and considered, however.

Dated: May 23, 2012.
Laurence Crabtree,
Acting Plumas National Forest Supervisor.

[FR Doc. 2012-13576 Filed 6-4-12; 8:45 am]

BILLING CODE 3410-11-P